DEPARTMENT OF COMMERCE

National Oceanic and Atmospheric Administration

RIN 0648-XF801

Endangered Species; File No. 20610

AGENCY: National Marine Fisheries Service (NMFS), National Oceanic and Atmospheric Administration (NOAA), Commerce.

ACTION: Notice; receipt of application for permit modification.

SUMMARY: Notice is hereby given that David Portnoy, Ph.D., Texas A&M University, Corpus Christi, TX 78412, has requested a modification to scientific research Permit No. 20610-01.

DATES: Written, telefaxed, or email comments must be received on or before October 24, 2019.

ADDRESSES: The application and related documents are available for review by selecting “Records Open for Public Comment” from the “Features” box on the Applications and Permits for Protected Species (APPS) home page, https://apps.nmfs.noaa.gov, and then selecting File No. 20610-02 from the list of available applications. These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 20610 in the subject line of the email comment.

Those individuals requesting a public hearing should submit a written request to the Chief, Permits and Conservation Division at the address listed above. The request should set forth the specific reasons why a hearing on the application would be appropriate.

FOR FURTHER INFORMATION CONTACT: Jennifer Skidmore or Erin Markin (301) 427-8401.

SUPPLEMENTARY INFORMATION: The subject modification to Permit No. 20610-01 is requested under the authority of the Endangered Species Act of 1973, as amended (ESA; 16 U.S.C. 1531 et seq.) and the regulations governing the taking, importing, and exporting of endangered and threatened species (50 CFR parts 222-226).

Permit No. 20610, issued on February 27, 2018 (83 FR 13731; March 30, 2018), authorizes the permit holder to import scalloped hammerhead shark (Sphyrna lewini) tissues for genetic analysis at Texas A&M University in Corpus Christi. The permit was modified on June 27, 2019 (84 FR 34371; July 18, 2019) adding Cabo Verde as an additional country from which samples may be imported. The permit holder is requesting authorization to import additional samples from up to 100 animals from the eastern

Pacific Distinct Population Segment (DPS) and up to 50 animals from the eastern Atlantic DPS. All other aspects of the permitted activities would not change. The permit would expire on February 28, 2023.

Dated: September 18, 2019.
Julia Marie Harrison,
Chief, Permits and Conservation Division, Office of Protected Resources, National Marine Fisheries Service.

[FR Doc. 2019-20603 Filed 9-23-19; 8:45 am]

BILLING CODE 3510-22-P